DEPARTMENT OF THE TREASURY

Internal Revenue Service

Open Meeting of the Area 7 Taxpayer Advocacy Panel (Including the States of Alaska, California, Hawaii, and Nevada)

AGENCY: Internal Revenue Service (IRS), Treasury.

ACTION: Notice.

SUMMARY: An open meeting of the Area 7 committee of the Taxpayer Advocacy Panel will be conducted in Washington, D.C. The Taxpayer Advocacy Panel (TAP) is soliciting public comments, ideas, and suggestions on improving customer service at the Internal Revenue Service. The TAP will use citizen input to make recommendations to the Internal Revenue Service.

DATES: The meeting will be held Tuesday, December 12, 2006, from 8 a.m. EST to 12 noon EST.

FOR FURTHER INFORMATION CONTACT: Janice Spinks at 1-888-912-1227, or 206-220-6096.

SUPPLEMENTARY INFORMATION: Notice is hereby given pursuant to Section 10(a)(2) of the Federal Advisory Committee Act, 5 U.S.C. App. (1988) that an open meeting of the Area 7 Taxpayer Advocacy Panel will be held Tuesday, December 12, 2006, from 8 a.m. EST to 12 noon EST at the Hyatt Regency on Capitol Hill, 400 New Jersey Ave., NW., Washington, DC 20001. If you would like to have the TAP consider a written statement, please call 1-888-912-1227 or 206-220-6096, or write to Janice Spinks, TAP Office, 915 2nd Avenue, MS W-406, Seattle, WA 98174 or you can contact us at http://www.improveirs.org. Please call Ms. Spinks for additional information, he can be reached at 1-888-912-1227 or 206-220-6096.

The agenda will include the following: Various IRS issues.

Dated: November 21, 2006.
John Fay,
Acting Director, Taxpayer Advocacy Panel.

[FR Doc. E6-20102 Filed 11-27-06; 8:45 am]

BILLING CODE 4830-01-P